DEPARTMENT OF HOUSING AND URBAN DEVELOPMENT

[Docket No. FR-6311-N-01]

Announcement of Funding Awards

AGENCY: Office of Chief Financial Officer, HUD.

ACTION: Notice.

SUMMARY: In accordance with the Department of Housing and Urban Development (HUD) Reform Act of 1989, this announcement notifies the public of funding decisions made by the Department in competitions for additional funding under the Notices of Funding Opportunity (NOFOs) and Notices for the following programs: FY2020 and FY2021 HUD Community Compass Technical Assistance and Capacity Building Program, FY2021 HOPWA Permanent Supportive Renewal and Replacement Grant, FY2020 Section 4 Capacity Building Program, FY 2021 Veterans Housing Rehabilitation and Modification Pilot Program, FY2021 Fair Housing Initiatives Program (FHIP)—Education and Outreach Initiative (EOI), FY 2021 Fair Housing Initiatives Program (FHIP)—Fair Housing Organizations Initiative (FHOI), FY2021 Fair Housing Initiatives Program (FHIP)—Private Enforcement Initiative (PEI), FY 2021 Fair Housing Initiatives Program (FHIP) Education and Outreach Initiative—Tester Training (EOI-TT), FY2021 Healthy Homes Weatherization Cooperation Demonstration, FY2021 Lead Technical Studies, FY 2021 Health Homes Technical Studies, FY2020 Choice Neighborhoods Implementation Grants, FY2020 HOPE VI Main Street, FY 2020 Housing Related Hazards, FY 2021 Emergency Safety and Security, FY 2021 Emergency and Natural Disaster Receivership, FY2021 Emergency and Natural Disaster, PIH Notice 2021-09 Tribal VASH Supportive Housing Renewal Funding (fiscal year 2017 appropriated funds), FY2020 Indian Housing Block Grant Competitive Program, FY2020 Tribal VASH Supportive Housing Expansion (fiscal year 2015 appropriated funds), FY2020 Jobs Plus Initiative, and FY2020 Resident Opportunity & Efficiency Service Coordinator (ROSS-SC) Grant Program.

Contact: Office of the Chief Financial Officer (Systems), Grants Management and Oversight at AskGMO@hud.gov or the contact person listed in each appendix.

SUPPLEMENTARY INFORMATION: HUD posted FY2020 and FY2021 HUD Community Compass Technical Assistance and Capacity Building Program on grants.gov July 23, 2020, (FR-6400-N-06; Round 2). The competition closed on September 23, 2020. HUD rated and selected for funding based on selection criteria contained in the NOFO. This round of the competition awarded $70,741,000 to 18 recipients for services to grantees and other customers of HUD's mission-critical programs by using all or part of the following sources: (1) The Further Consolidated Appropriations Act, 2020 Public Law 116-94, which includes funding for technical assistance for grantees in the Office of Community Planning and Development; Office of Public and Indian Housing for PHA Receivership and Native American Programs; Office of Fair Housing and Equal Opportunity; and Office of Policy Development and Research (which is used for Departmental TA priorities and grantees); and (2) the Coronavirus Aid, Relief, and Economic Security Act (CARES Act), 2020 (Pub. L. 116-136), which includes funding for recipients impacted by the coronavirus pandemic; and (3) the American Rescue Plan, 2021 (Pub. L. 117-2), which provides funding for technical assistance grants to eligible grantees implementing a rental assistance program using HUD funding; and (4) the Treasury Emergency Rental Assistance Programs, 2021 (Pub. L. 116-260), which HUD was authorized to award through an Interservice Support Agreement with Treasury to facilitate technical assistance to eligible grantees of the Emergency Rental Assistance 1 Program.

HUD posted Procedural Guidance for Fiscal Year 2021 HOPWA Permanent Supportive Renewal and Replacement Grant Applications Notice on HUD.gov April 14, 2021, (Notice CPD-21-04). The period for grantees with eligible expiring HOPWA permanent supportive housing grants to apply for renewal or replacement grants closed on May 28, 2021. Based on the criteria described in the Notice, HUD awarded $27,068,517 in renewal or replacement grants to 24 recipients to provide permanent supportive housing as the primary grant activity to HOPWA-eligible clients.

HUD posted FY2020 Section 4 Capacity Building Program on grants.gov March 10, 2021, (FR-6400-N-07). The competition closed on May 11, 2021. HUD rated and selected for funding based on selection criteria contained in the NOFO. This competition awarded $36,000,000 to 3 recipients to enhance the capacity and ability of Community Development Corporations (CDCs) and Community Housing Development Organizations (CHDOs) to carry out affordable housing and community development activities that benefit low- and moderate-income families and persons.

HUD posted FY 2021 Veterans Housing Rehabilitation and Modification Pilot Program on grants.gov April 27, 2021, (FR-6500-N-39). The competition closed on July 30, 2021. HUD rated and selected for funding based on selection criteria contained in the NOFO. This competition awarded $3,000,000 in grants of $1 million each to 3 nonprofit organizations that provide nationwide or statewide programs which primarily serve low-income individual and/or veterans. The grants may be used to modify or rehabilitate the primary residences of veterans who are low-income and living with disabilities, which may include installing wheelchair ramps, widening exterior and interior doors, reconfiguring, and reequipping bathrooms, or adding a bedroom or bathroom for the veteran.

HUD posted FY 2021 Fair Housing Initiatives Program (FHIP)—Education and Outreach Initiative (EOI) Program on grants.gov April 27, 2021 (FR-6500-N-21A). The competition closed on June 14, 2021. HUD rated and selected for funding based on selection criteria contained in the NOFO. This competition awarded $10,281,105.87 to 77 recipients to develop, implement, carry out, and coordinate education and outreach programs designed to inform members of the public concerning their rights and obligations under the provisions of the Fair Housing Act. Under the EOI NOFO, eligible funding activities may include but are not limited to developing educational advertising campaigns, developing, and distributing material, and conducting educational activities that inform people of their rights and responsibilities under the Fair Housing Act.

HUD posted FY 2021 Fair Housing Initiatives Program (FHIP)—Fair Housing Organizations Initiative Program on grants.gov April 27, 2021 (FR-6500-N-21B). The competition closed on June 14, 2021. HUD rated and selected for funding based on selection criteria contained in the NOFO. This competition awarded $2,156,183 to 10 recipients of non-profit fair housing organizations to build their capacity and effectiveness to conduct enforcement related activities eligible for funding including but not limited to: (1) Adding an enforcement staff and enforcement-related activities (e.g., to an existing fair housing education organization); and (2) expanding testing expertise and experience.

HUD posted FY 2021 Fair Housing Initiatives Program (FHIP)—Private Enforcement Initiative Program on grants.gov April 28, 2021 (FR-6500-N-21C). The competition closed on June 14, 2021. HUD rated and selected for funding based on selection criteria contained in the NOFO. This competition awarded $34,556,620.66 to 93 recipients. These private, non-profit fair housing enforcement organizations meet statutory requirements to conduct testing, investigate violations and obtain enforcement of the rights granted under the Fair Housing Act or State or local laws that are substantially equivalent to the rights and remedies provided in the Fair Housing Act.

HUD posted FY 2021 Fair Housing Initiatives Program (FHIP)—Education and Outreach Initiative—Tester Training Program on grants.gov April 28, 2021, (FR-6500-N-71A). The competition closed on June 14, 2021. HUD rated and selected for funding based on selection criteria contained in the NOFO. This competition awarded $499,149 to 1 recipient to conduct fair housing testing in local communities across the country. Fair housing testing refers to the use of testers who, without any bona fide intent to rent or purchase property, pose as prospective renters or buyers of real estate for the purpose of determining whether housing providers and others are complying with the federal Fair Housing Act.

HUD posted FY2021 Healthy Homes and Weatherization Cooperation Demonstration Program on grants.gov July 19, 2021, (FR-6500-N-62). The competition closed on August 17, 2021. HUD rated and selected for funding based on selection criteria contained in the NOFO. This competition awarded $5,000,000 to 5 recipients to provide housing interventions in lower income households that are conducted jointly through the coordination of HUD's Office of Lead Hazard Control and Healthy Homes (OLHCHH)-funded Lead Hazard Control/Healthy Homes programs and Weatherization Assistance Program (WAP) grantees or sub-grantees funded by the Department of Energy (DOE) to determine whether this coordinated delivery of services achieves cost effectiveness and better outcomes, including resident health, in improving the safety and energy efficiency of homes.

HUD posted FY2021 Lead Technical Studies Grant Program on grants.gov May 20, 2021, (FR-6500-N-15). The competition closed on June 21, 2021 (Pre-Application) and August 16, 2021 (Full Application). HUD rated and selected for funding based on selection criteria contained in the NOFO. This competition awarded $4,106,924 to 6 recipients to gain knowledge to improve the efficacy and cost-effectiveness of methods for evaluation and control of residential lead-based paint hazards.

HUD posted FY2021 Healthy Homes Technical Studies Grant Program on grants.gov May 20, 2021, (FR-6500-N-15). The competition closed on June 21, 2021 (Pre-Application) and August 16, 2021 (Full Application). HUD rated and selected for funding based on selection criteria contained in the NOFO. This competition awarded $6,585,281 to 7 recipients to advance the recognition and control of priority residential health and safety hazards and more closely examine the link between housing and health.

HUD posted FY2020 Choice Neighborhoods Implementation Grants Program on grants.gov August 24, 2020, (FR-6400-N-34). The competition closed on December 16, 2020. HUD rated and selected for funding based on selection criteria contained in the NOFO. This competition awarded $160,000,000 to 5 recipients to redevelop severely distressed public and HUD-assisted housing. Grantees leverage significant public and private dollars to support locally driven strategies that address struggling neighborhoods with distressed public or HUD-assisted housing through a comprehensive approach to neighborhood transformation. Local leaders, residents, and stakeholders, such as public housing authorities, cities, schools, police, business owners, nonprofits, and private developers, come together to create and implement a plan that revitalizes distressed HUD housing and addresses the challenges in the surrounding neighborhood.

HUD posted FY2020 HOPE VI Main Street Program on grants.gov October 29, 2020 (FR-6400-N-03). The competition closed on January 19, 2020. HUD rated and selected for funding based on selection criteria contained in the NOFO. This competition awarded $1,500,000 to 3 recipients to provide grants to small communities to assist in the renovation of an historic or traditional central business district or “Main Street” area by replacing unused, obsolete, commercial space in buildings with affordable housing units.

HUD posted FY 2020 Housing Related Hazards on grants.gov March 24, 2021, (FR-6400-N-68). The competition closed on May 25, 2021. HUD rated and selected for funding based on selection criteria contained in the NOFO. This competition awarded $20,000,000 to 17 recipients to assist PHAs to identify and eliminate housing-related hazards in public housing such as mold, carbon monoxide, pest infestation, radon, fire hazards and other housing hazards.

HUD posted FY 2021 Emergency Safety and Security on grants.gov September 17, 2020, (PIH Notice 2020-25). The competition closed on June 2, 2021. HUD rated and selected for funding based on selection criteria contained in the notice. This competition awarded $10,000,000 to 55 recipients to support public housing authorities as they address the safety of public housing residents. These grants may be used to install, repair, or replace capital needs items including security systems/surveillance cameras, fencing, lighting systems, emergency alarm systems, window bars, deadbolt locks and doors.

HUD posted FY 2021 Emergency and Natural Disaster Receivership appropriations of $45,000,000 to 3 recipients to address crime and drug-related activity as well as needs resulting from unforeseen or unpreventable emergencies and natural disasters excluding Presidentially declared emergencies and natural disasters under the Robert T. Stafford Disaster Relief and Emergency Act (42 U.S.C. 5121 et seq.), occurring in fiscal year 2021 (October 1, 2020-September 30, 2021). Eligible emergency capital needs include repair or restoration as a result of significant property destruction resulting from a non-Presidentially declared natural disaster; mitigation of emergency conditions such as elevator failure, boiler failure, water intrusion causing mold growth, sewer line failure, severe electrical problems, lead-based paint hazards, carbon monoxide and radon hazards, and local building code violations; and safety and security needs. Examples of emergency capital needs requiring measures to address safety and security include, but are not limited to, security lighting, alarm systems, and fencing.

HUD posted FY 2021 Emergency and Natural Disaster appropriations of $4,203,684,00 to 7 recipients to address crime and drug-related activity as well as needs resulting from unforeseen or unpreventable emergencies and natural disasters excluding Presidentially declared emergencies and natural disasters under the Robert T. Stafford Disaster Relief and Emergency Act (42 U.S.C. 5121 et seq.), occurring in fiscal year 2021 (October 1, 2020-September 30, 2021).

HUD posted PIH Notice 2021-09 Tribal HUD-VA Supportive Housing (Tribal HUD-VASH) Renewal Funding Grant Program on grants.gov March 12, 2021 (PIH-Notice 2021-09). The application window for renewal funding closed on May 14, 2021. Pursuant to the authority provided by the Consolidated Appropriations Act, 2018, Public Law 115-141 and Consolidated Appropriations Act, 2019 Public Law 116-6 (“Appropriations Acts”), HUD awarded $3,377,062 for the renewal of rental assistance and associated administrative fees to 26 eligible Tribal HUD-VASH recipients initially funded with appropriated funds from Fiscal Year 2015.

HUD posted FY2020 Indian Housing Block Grant on grants.gov August 24, 2020 (FR-6400-N-48). The competition closed on December 10, 2020. HUD rated and selected applications for funding based on selection criteria contained in the NOFO. This competition awarded $91,013,382 to 24 recipients.

HUD posted FY2020 Tribal HUD-VASH Expansion on grants.gov January 15, 2021 (FR-6400-N-73). The competition closed on April 15, 2021. HUD rated and selected applications for funding based on selection criteria contained in the NOFO. This competition awarded $1,021,818 to 5 recipients to provide housing assistance and supportive services to Native American Veterans who are homeless or at risk of homelessness.

HUD posted FY2020 Jobs Plus Initiative on grants.gov August 25, 2020 (FR-6400-N-14). The competition closed on December 01, 2020. HUD rated and selected for funding based on selection criteria contained in the NOFO. This competition awarded $28,279,543 to 12 recipients to develop locally based, job-driven approaches that increase earnings and advance employment outcomes through work readiness, employer linkages, job placement, educational advancement, technology skills, and financial literacy for residents of public housing. The place-based Jobs Plus program addresses poverty among public housing residents by incentivizing and enabling employment through earned income disregards for working residents and a set of services designed to support work including employer linkages, job placement and counseling, educational advancement, and financial counseling.

HUD posted FY2020 Resident Opportunity & Efficiency Service Coordinator (ROSS-SC) Grant Program on grants.gov August 18, 2020 (FR-6400-N-05). The competition closed on November 19, 2020. HUD rated and selected for funding based on selection criteria contained in the NOFO. This competition awarded $37,699,255 to 147 recipients to assist residents of Public and Indian Housing make progress towards economic self-sufficiency. HUD provides ROSS-SC grant funding to Public Housing Authorities, tribes, resident associations, and eligible nonprofits to hire a Service Coordinator who assesses the needs of Public and Indian housing residents and links them to supportive services that enable participants to move along a continuum towards economic independence and stability.

In accordance with section 102(a)(4)(C) of the Department of Housing and Urban Development Reform Act of 1989 (103 Stat. 1987, 42 U.S.C. 3545(a)(4)(C)), the Department is publishing the awardees and the amounts of the awards in Appendices A-V of this document.

Dorthera Yorkshire,
Director, Grants Management and Oversight, Office of the Chief Financial Officer.

Appendix A

FY20208 and FY2021 HUD Community Compass Technical Assistance and Capacity Building Program (FR-6400-FA-06)

Contact: Stephanie V. Stone (202) 402-7418.

Legal name | Street address | City | State | Zip code | FY20 P.L. 116-94 funding total | FY20 P.L. 116-136 funding total | FY21 P.L. 117-2 funding total | FY21 P.L. 116-260 funding total | Total per provider
ICF Incorporated, L.L.C | 9300 Lee Highway | Fairfax | VA | 22031 | $6,364,000.00 | $2,618,000.00 | $3,000,000.00 | $ | $11,982,000.00
Technical Assistance Collaborative | 15 Court Square, 11th FL | Boston | MA | 2108 | 3,091,000.00 | 2,163,000.00 | 4,600,000.00 |  | 9,854,000.00
Cloudburst Consulting Group, Inc | 8400 Corporate Drive, Ste 550 | Landover | MD | 20785 | 1,875,000.00 | 2,795,000.00 | 500,000.00 |  | 5,170,000.00
Corporation for Supportive Housing | 61 Broadway, Ste. 2300 | New York | NY | 10006 | 3,258,000.00 | 3,895,000.00 | 3,600,000.00 |  | 10,753,000.00
Collaborative Solutions, Inc | P.O. Box 130159 | Birmingham | AL | 35213 | 1,008,000.00 |  | 500,000.00 |  | 1,508,000.00
FirstPic, Inc. | 2614 Chapel Lake | Gambrills | MD | 21054 |  |  | 5,000,000.00 | 500,000.00 | 5,500,000.00
Local Initiatives Support Corporation | 28 Liberty Street, Fl 34 | New York | NY | 10005 |  |  | 1,500,000.00 | 750,000.00 | 2,250,000.00
Econometrica, Inc. [1] | 7475 Wisconsin Ave., Ste. 1000 | Bethesda | MD | 20814 | 125,000.00 |  | 800,000.00 |  | 925,000.00
Homebase/The Center for Common Concerns | 870 Market Street, Ste. 1128 | San Francisco | CA | 94102 | 1,860,000.00 | 1,301,000.00 | 2,500,000.00 | 500,000.00 | 6,161,000.00
TDA Consulting, Inc. | 1110 Harvest Canyon | San Antonio | TX | 78258 | 487,000.00 | 1,052,000.00 | 800,000.00 | 750,000.00 | 3,089,000.00
CVR Associates, Inc. [2] | 2309 S MacDill Ave., Ste. 200 | Tampa | FL | 33629 | 590,000.00 |  |  | 500,000.00 | 1,090,000.00
Du & Associates, Inc | 4350 E West Highway, Ste. 310 | Bethesda | MD | 20814 | 460,000.00 |  |  |  | 460,000.00
Association of Alaska Housing Authorities | 4300 Boniface Parkway | Anchorage | AK | 99504 |  |  | 700,000.00 |  | 700,000.00
Abt Associates, Inc | 6130 Executive Blvd | Rockville | MD | 20852 | 3,763,000.00 | 3,026,000.00 | 1,000,000.00 |  | 7,789,000.00
The Partnership Center, Ltd | 2134 Alpine Place | Cincinnati | OH | 45206 | 360,000.00 | 400,000.00 |  |  | 760,000.00
Enterprise Community Partners, Inc | 70 Corporate Center 11000 Broken Land Parkway | Columbia | MD | 21044 |  |  | 1,500,000.00 |  | 1,500,000.00
Corporate F.A.C.T.S., Inc | 51248 Plymouth Valley Drive | Plymouth | MI | 48170 |  | 250,000.00 |  |  | 250,000.00
National American Indian Housing Council | 122 C Street NW, Ste. 350 | Washington | DC | 20001 |  |  | 1,000,000.00 |  | 1,000,000.00
Totals: |  |  |  |  | 23,241,000.00 | 17,500,000.00 | 27,000,000.00 | 3,000,000.00 | 70,741,000.00
[1] The previous award notice listed CGI Federal as receiving $250,000 under FY20 P.L. 116-94. CGI Federal did not accept the funds. $125,000 of the funds were re-obligated to Econometrica, Inc.
[2] The previous award notice listed CGI Federal as receiving $250,000 under FY20 P.L. 116-94. CGI Federal did not accept the funds. $125,000 of funds were re-obligated to CVR Associates, Inc. and is included in the total award noted.

Appendix B

Procedural Guidance for Fiscal Year 2021 HOPWA Permanent Supportive Renewal and Replacement Grant Applications Notice

Contact: Claire Donze Claire.L.Donze@hud.gov, 202-402-2365

Organization | Address | City | State | Zip code | Amount
AIDS Foundation of Chicago | 200 W. Monroe St., Suite 1150 | Chicago | IL | 60606 | $1,458,870.00
AIDS Resource Center of Wisconsin d/b/a Vivent Health | 820 N. Plankinton Ave | Milwaukee | WI | 53203-1802 | 1,263,091.00
Bailey House, Inc | 1751 Park Ave., 3rd Floor | New York | NY | 10035-2811 | 1,039,365.00
Bailey House, Inc | 81 Willoughby Street, 2nd Floor | Brooklyn | NY | 11201-5232 | 1,326,555.00
Burlington Housing Authority | 65 Main Street, Suite 101 | Burlington | VT | 05401-8408 | 383,875.00
Cass Community Social Services, Inc | 11745 Rosa Parks Blvd | Detroit | MI | 48206-1269 | 1,350,186.00
Chicago House and Social Service Agency | 2229 S Michigan Ave., Suite 304 | Chicago | IL | 60616-2102 | 1,277,394.00
City of Chicago | 300 South State Street, Suite 200 | Chicago | IL | 60604-3946 | 1,494,847.00
Community Healthlink, Inc | 72 Jaques Avenue | Worcester | MA | 01610 | 838,159.00
Fenway Community Health Center | 1340 Boyslton Street | Boston | MA | 02215-4302 | 1,398,936.00
Frannie Peabody Center | 30 Danforth Street, Suite 311 | Portland | ME | 04101-4574 | 1,042,130.00
Frannie Peabody Center | 30 Danforth Street, Suite 311 | Portland | ME | 04101-4574 | 1,310,348.00
Gregory House Programs | 200 N. Vineyard Blvd. Suite A310 | Honolulu | HI | 96817-3950 | 1,391,903.00
Interfaith Residence dba Doorways | 4385 Maryland Ave | Saint Louis | IL | 63108-2703 | 971,945.00
Interfaith Residence dba Doorways | 4385 Maryland Ave | Saint Louis | MO | 63108-2703 | 1,117,255.00
Lutheran Social Services of Northern California | 1465 Civic Court, Building D, Suite 810 | Concord | CA | 94520-5296 | 1,276,936.00
Ministry of Caring, Inc | 115 E 14th Street | Wilmington | DE | 19801 | 791,010.00
New Jersey Department of health | 55 North Willow Street | Trenton | NJ | 08608-1203 | 1,235,823.00
State of Alaska | P.O. Box 101020, 4300 Boniface Pkwy | Anchorage | AK | 99510-1020 | 773,309.00
State of Montana | 1400 Carter Dr | Helena | MT | 59601-6400 | 1,493,525.00
State of New Hampshire | 129 Pleasant Street | Concord | NH |  | 974,100.00
The Salvation Army, a California Corporation | 16941 Keegan Avenue | Carson | CA | 90746-1307 | 1,063,476.00
Washington State Department of Health | 101 Israel Road | Tumwater | WA | 98501 | 1,222,025.00
Wyoming Department of Health | 122 West 25th St., 3rd Floor West | Cheyenne | WY | 82002-3004 | 573,454.00
Total |  |  |  |  | 27,068,517.00

Appendix C

FY2020 Section 4 Capacity Building Program (FR-6400-FA-07)

Contact: Anupama Abhyankar 202-402-3981

Organization name | Street address or P.O. Box | City | State | Zip code | Award amount
Enterprise Community Partners Inc | 1100 Broken Land Parkway, Suite 700 | Columbia | MD | 21044 | $14,253,912.00
Local Initiatives Support Corporation (LISC) | 28 Liberty, 33rd floor | New York | NY | 11201 | 13,647,363.00
Habitat for Humanity International | 322 West Lamar | Americus | GA | 31709 | 8,098,725.00
Total |  |  |  |  | 36,000,000.00

Appendix D

FY2021 Veterans Housing Rehabilitation and Modification Pilot Program (VHRMP) (FR-6500-FA-39)

Contact: Jackie L. Williams, Ph.D., Director, Office of Rural Housing and Economic Development, 877-787-2526.

Organization | Address | City | State | Zip code | Amount
Habitat for Humanity International | 322 West Lamar Street | Americus | GA | 31709 | $1,000,000
Habitat for Humanity Michigan | 618 South Creyts Road, Suite A | Lansing | MI | 48917 | 1,000,000
Rebuilding Together, Inc | 999 North Capitol Street NE, Suite 701 | Washington | DC | 20002 | 1,000,000
Total |  |  |  |  | 3,000,000

Appendix E

FY 2021 Fair Housing Initiatives Program (FHIP)—Education and Outreach Initiative (FR-6500-N-21A)

Contact: Stephanie Waller (202) 402-6938.

Legal name | Address | City | State | Zip code | Amount
Lexington Fair Housing Council, Inc | 207 E Reynolds Rd. Suite 130 | Lexington | KY | 40517 | $78,401.00
Hampton Roads Community Action Program Inc | 2410 Wickham Avenue | Newport News | VA | 23607 | 91,270.66
Greenville County Human Relations Commission | 301 University Ridge, Suite 1600 | Greenville | SC | 29601 | 124,000.00
Idaho Legal Aid Services, Inc. | 1447 S Tyrell Lane | Boise | ID | 83706 | 124,445.00
The Board of Trustees of the University of Illinois | 809 S. Marshfield Avenue, MB 502, M/C 551 | Chicago | IL | 60612 | 124,822.00
Tabor Community Services, Inc | 308 E King Street | Lancaster | PA | 17602 | 124,902.00
Intermountain Fair Housing Council, Inc | 4696 W Overland Rd., Suite 140 | Boise | ID | 83705 | 124,955.00
Silver State Fair Housing Council | 110 W Arroyo Street, Suite A | Reno | NV | 89509 | 124,999.00
Alaska Legal Services Corporation | 1016 W 6th Avenue, Suite 200 | Anchorage | AK | 99501 | 125,000.00
Mobile Fair Housing Center | 602 Bel Air Boulevard, Suite 7 | Mobile | AL | 36606 | 125,000.00
Sonora Environmental Research Institute, Inc | 3202 E Grant Rd | Tucson | AZ | 85716 | 125,000.00
Southwest Fair Housing Council | 177 N Church Ave, Suite 1104 | Tucson | AZ | 85701 | 125,000.00
California Rural Legal Assistance, Inc | 1430 Franklin Street, Suite 103 | Oakland | CA | 94612 | 125,000.00
CSA San Diego County | 327 Van Houten Avenue | El Cajon | CA | 92020 | 125,000.00
Fair Housing Council of Riverside County, Inc | P.O. Box 1068 | Riverside | CA | 92502 | 125,000.00
Fair Housing Foundation | 3605 Long Beach Blvd. Ste. 302 | Long Beach | CA | 90807 | 125,000.00
Inland Fair Housing and Mediation Board | 1500 S Haven Avenue, Suite 100 | Ontario | CA | 91761 | 125,000.00
Legal Aid Society of San Diego, Inc | 110 South Euclid Avenue | San Diego | CA | 92114 | 125,000.00
Mental Health Advocacy Services, Inc | 3255 Wilshire Blvd., Suite 902 | Los Angeles | CA | 90010 | 125,000.00
Orange County Fair Housing Council, Inc | 2021 E. 4th Street, Suite 122 | Santa Ana | CA | 92705 | 125,000.00
Southern California Housing Rights Center | 3255 Wilshire Blvd. Suite 1150 | Los Angeles | CA | 90010 | 125,000.00
Fair Housing Advocates of Northern California | 1314 Lincoln Ave, Ste. A | San Rafael | CA | 94901 | 125,000.00
Bridgeport Neighborhood Trust | 570 State Street | Bridgeport | CT | 06604 | 125,000.00
Open Communities Alliance | 75 Charter Oak Avenue, Suite 1-200 | Hartford | CT | 06106 | 125,000.00
Connecticut Fair Housing Center | 60 Popieluszko Court | Hartford | CT | 06106 | 125,000.00
Housing Counseling Services | 2410 17th Street, NW Suite 100 | Washington | DC | 20009 | 125,000
Equal Rights Center | 820 First St. NE, LL160 | Washington | DC | 20002 | 125,000.00
Pathways to Success, Inc | 31 The Circle, Suite 1 | Georgetown | DE | 19947 | 125,000.00
City of Tampa | 306 E Jackson St | Tampa | FL | 33602 | 125,000.00
Florida Legal Services, Inc | P.O. Box 533986 | Orlando | FL | 32853 | 125,000.00
Housing Opportunities Project for Excellence (HOPE), Inc | 11501 NW 2nd Avenue | Miami | FL | 33168 | 125,000.00
Jacksonville Area Legal Aid, Inc | 126 W Adams St | Jacksonville | FL | 32202 | 125,000.00
Legal Aid Society of Palm Beach County, Inc | 423 Fern Street Suite 200 | West Palm Beach | FL | 33401 | 125,000.00
Veterans Center Incorporated | 8060 Webb Road, Unit 741202 | Riverdale | GA | 30274 | 125,000.00
Open Communities | 1880 Oak Ave, Suite 301 | Evanston | IL | 60201 | 125,000.00
South Suburban Housing Center | 18220 Harwood Avenue, Suite 1 | Homewood | IL | 60430 | 125,000.00
H.O.P.E. Inc d/b/a HOPE Fair Housing Center | 202 W Willow Ave. Suite 203 | Wheaton | IL | 60187 | 125,000.00
HCP of Illinois, Inc | 228 S Wabash Ave., FL 5 | Chicago | IL | 60604 | 125,000.00
Fair Housing Center of Central Indiana, Inc | 445 N Pennsylvania St. Suite 811 | Indianapolis | IN | 46204 | 125,000.00
Louisiana Fair Housing Action Center, Inc | 1340 Poydras Street, Suite 710 | New Orleans | LA | 70112 | 125,000.00
Suffolk University | 8 Ashburton Place | Boston | MA | 02108 | 125,000.00
Way Finders, Inc | 1780 Main Street | Springfield | MA | 01103 | 125,000.00
Community Teamwork Inc | 155 Merrimack St | Lowell | MA | 01852 | 125,000.00
Fair Housing Center of Southeastern Michigan | 301 W Michigan Avenue, Suite 321 | Ypsilanti | MI | 48197 | 125,000.00
Legal Services of Eastern Michigan | 436 S Saginaw Street, Suite 101 | Flint | MI | 48502 | 125,000.00
Fair Housing Center of West Michigan | 20 Hall Street SE | Grand Rapids | MI | 49507 | 125,000.00
Metropolitan St. Louis Equal Housing and Opportunity Council | 1027 S Vandeventer Ave., 6th Floor | St. Louis | MO | 63110 | 125,000.00
Mississippi Center for Justice | 5 Old River Place, Suite 203 | Jackson | MS | 39202 | 125,000.00
Legal Aid of North Carolina, Inc | 224 S. Dawson St. | Raleigh | NC | 27601 | 125,000.00
High Plains Fair Housing Center | 406 Demers Road | Grand Forks | ND | 58201 | 125,000.00
City of Lincoln, Nebraska | 555 South 10th Street | Lincoln | NE | 68508 | 125,000.00
New Hampshire Legal Assistance | 117 North State Street | Concord | NH | 03301 | 122,526.00
Fair Housing Council of Northern New Jersey | 131 Main Street, Suite 140 | Hackensack |  | 07601 | 125,000.00
Citizen Action of New Jersey | 625 Broad Street, Suite 270 | Newark | NJ | 07102 | 125,000.00
CNY Fair Housing, Inc | 731 James Street, Suite 200 | Syracuse | NY | 13203 | 125,000.00
Housing Opportunities Made Equal, Inc | 1542 Main Street | Buffalo | NY | 14209 | 125,000.00
Legal Assistance of Western New York, Inc | 361 South Main | Geneva | NY | 14456 | 125,000.00
City of White Plains | 70 Church Street | White Plains | NY | 10601 | 125,000.00
Fair Housing Opportunities, Inc. dba The Fair Housing Center | 326 N Erie St. | Toledo | OH | 43604 | 125,000.00
Fair Housing Resource Center, Inc | 1100 Mentor Avenue | Painesville | OH | 44077 | 125,000.00
Housing Research & Advocacy Center | 2728 Euclid Ave., Suite 200 | Cleveland | OH | 44115 | 125,000.00
Miami Valley Fair Housing Center, Inc | 505 Riverside Drive | Dayton | OH | 45405 | 125,000.00
Fair Housing Contact Service, Inc | 441 Wolf Ledges Parkway, Suite 200 | Akron | OH | 44311 | 125,000.00
Fair Housing Council of Oregon | 1221 SW Yamhill St #305 | Portland | OR | 97205 | 125,000.00
Fair Housing Rights Center in Southeastern Pennsylvania | 444 N 3rd Street, Suite 110 | Philadelphia | PA | 19123 | 125,000.00
Southwestern Pennsylvania Legal Services, Inc | 10 West Cherry Avenue | Washington | PA | 15301 | 125,000.00
Fair Housing Council of Suburban Philadelphia, Inc | 550 Pinetown Road, Suite 460 | Fort Washington | PA | 19034 | 125,000.00
Charleston Trident Urban League | 1064 Gardner Road Suite 307 | Charleston | SC | 29407 | 125,000.00
Housing Opportunities Made Equal of Virginia, Inc | 626 East Broad Street, Suite 400 | Richmond | VA | 23219 | 125,000.00
Champlain Valley Office of Economic Opportunity, Inc | 255 South Champlain St., Suite 9 | Burlington | VT | 05401 | 125,000.00
Vermont Legal Aid, Inc | 264 N Winooski Ave | Burlington | VT | 05401 | 125,000.00
Northwest Fair Housing Alliance | 35 W Main, Suite 250 | Spokane | WA | 99201 | 125,000.00
Fair Housing Center of Washington | 1517 Fawcett Avenue, Suite 250 | Tacoma | WA | 98402 | 125,000.00
Metropolitan Milwaukee Fair Housing Council | 759 North Milwaukee Street, Suite 500 | Milwaukee | WI | 53202 | 125,000.00
West Virginia Coalition to End Homelessness | 110 Cambridge Place | Bridgeport | WV | 26416 | 125,000.00
National Fair Housing Alliance | 1331 Pennsylvania Ave., NW, Suite 650 | Washington | DC | 20004 | 499,149.00
National Community Reinvestment Coalition | 740 15th Street, NW | Washington | DC | 20005 | 499,636.21
Total |  |  |  |  | 10,289,105.87

Appendix F

FY 2021 Fair Housing Initiatives Program (FHIP)—Fair Housing Organizations Initiative (FR-6500-N-21B)

Contact: Stephanie Waller (202) 402-6938.

Organization | Street | City | State | Zip code | Amount
Legal Aid Society of San Diego, Inc | 110 South Euclid Avenue | San Diego | CA | 92114 | $250,000.00
Fair Housing Advocates of Northern California | 1314 Lincoln Ave., Ste. A | San Rafael | CA | 94901 | 250,000.00
Connecticut Fair Housing Center | 60 Popieluszko Court | Hartford | CT | 06106 | 250,000.00
Florida Legal Services, Inc | P.O. Box 533986 | Orlando | FL | 32853 | 250,000.00
Iowa Legal Aid | 1111 9th St., Suite 230 | Des Moines | IA | 50314 | 133,183.00
H.O.P.E. Inc d/b/a HOPE Fair Housing Center | 202 W. Willow Ave Suite 203 | Wheaton | IL | 60187 | 132,000.00
Louisiana Fair Housing Action Center, Inc | 1340 Poydras Street, Suite 710 | New Orleans | LA | 70112 | 250,000.00
Telamon Corporation | 5560 Munford Rd. Suite 201 | Raleigh | NC | 27612 | 250,000.00
High Plains Fair Housing Center | 406 Demers Road | Grand Forks | ND | 58201 | 141,000.00
Housing Opportunities Made Equal of Virginia, Inc | 626 East Broad Street, Suite 400 | Richmond | VA | 23219 | 250,000.00
Total |  |  |  |  | 2,156,183.00

Appendix G

FY 2021 Fair Housing Initiatives Program (FHIP)—Private Enforcement Initiative (FR-6500-N-21C)

Contact: Stephanie Waller (202) 402-6938.

Name | Street | City | State | Zip | Amount
Central Alabama Fair Housing Center, Inc | 2867 Zelda Road | Montgomery | AL | 36106 | $374,826.00
Legal Aid of Arkansas, Inc | 714 South Main | Jonesboro | AR | 72401 | 375,000.00
Southwest Fair Housing Council | 177 N Church Ave. Suite 1104 | Tucson | AZ | 85701 | 375,000.00
The Arizona Fair Housing Center | 1402 S Central Ave | Phoenix | AZ | 85004 | 370,000.00
California Rural Legal Assistance, Inc | 1430 Franklin Street Suite 103 | Oakland | CA | 94612 | 375,000.00
CSA San Diego County | 327 Van Houten Avenue | El Cajon | CA | 92020 | 375,000.00
Fair Housing Council of Riverside County, Inc | P.O. Box 1068 | Riverside | CA | 92502 | 375,000.00
Orange County Fair Housing Council, Inc | 2021 E. 4th Street Suite 122 | Santa Ana | CA | 92705 | 375,000.00
Southern California Housing Rights Center | 3255 Wilshire Blvd. | Los Angeles | CA | 90010 | 375,000.00
Fair Housing Council of Central California | 333 W Shaw Ave Ste 14 | Fresno | CA | 93704 | 353,177.00
Project Sentinel Inc | 1490 El Camino Real | Santa Clara | CA | 95050 | 375,000.00
Connecticut Fair Housing Center | 60 Popieluszko Court | Hartford | CT | 06106 | 375,000.00
National Fair Housing Alliance | 1331 Pennsylvania Ave., NW, Suite 650 | Washington | DC | 20004 | 375,000.00
National Community Reinvestment Coalition | 740 15th Street, NW | Washington | DC | 20005 | 375,000.00
Community Legal Aid Society, Inc | 100 W 10th Street, Suite 801 | Wilmington | DE | 19801 | 375,000.00
Housing Opportunities Project for Excellence (HOPE), Inc | 11501 NW 2nd Avenue | Miami | FL | 33168 | 375,000.00
Jacksonville Area Legal Aid, Inc | 126 W Adams St. | Jacksonville | FL | 32202 | 371,333.00
Legal Aid Society of Palm Beach County, Inc | 423 Fern Street Suite 200 | West Palm Beach | FL | 33401 | 375,000.00
Community Legal Services of Mid-Florida, Inc | 122 E Colonial Dr Ste 200 | Orlando | FL | 32801 | 375,000.00
JC Vision and Associates Inc | P.O. Box 1972 | Hinesville | GA | 31310 | 352,815.00
Legal Aid Society of Hawaii | 924 Bethel Street | Honolulu | HI | 96813 | 375,000.00
Intermountain Fair Housing Council, Inc | 4696 W Overland Rd. Suite 140 | Boise | ID | 83705 | 374,936.33
Open Communities | 1880 Oak Ave, Suite 301 | Evanston | IL | 60201 | 375,000.00
South Suburban Housing Center | 18220 Harwood Avenue, Suite 1 | Homewood | IL | 60430 | 367,690.00
H.O.P.E. Inc d/b/a HOPE Fair Housing Center | 202 W Willow Ave Suite 203 | Wheaton | IL | 60187 | 374,996.00
Prairie State Legal Services, Inc | 303 N Main Street, Suite 600 | Rockford | IL | 61101 | 375,000.00
Rogers Park Community Council dba Northside Community Resources | 1530 W Morse Avenue | Chicago | IL | 60626 | 375,000.00
Fair Housing Center of Central Indiana, Inc | 445 N Pennsylvania St. Suite 811 | Indianapolis | IN | 46204 | 361,036.00
Lexington Fair Housing Council, Inc | 207 E Reynolds Rd. Suite 130 | Lexington | KY | 40517 | 375,000.00
Louisiana Fair Housing Action Center, Inc | 1340 Poydras Street Suite 710 | New Orleans | LA | 70112 | 375,000.00
Suffolk University | 8 Ashburton Place | Boston | MA | 02108 | 374,888.00
Fair Housing Center of Southeastern Michigan | 301 W. Michigan Avenue, Suite 321 | Ypsilanti | MI | 48197 | 374,998.00
Legal Services of Eastern Michigan | 436 S Saginaw Street, Suite 101 | Flint | MI | 48502 | 347,233.00
Fair Housing Center of Metropolitan Detroit | 5555 Conner St. | Detroit | MI | 48213 | 375,000.00
Fair Housing Center of West Michigan | 20 Hall Street SE | Grand Rapids | MI | 49507 | 375,000.00
Fair Housing Center of Southwest Michigan | 405 W Michigan Ave. Suite 6 | Kalamazoo | MI | 49007 | 349,330.00
Mississippi Center for Justice | 5 Old River Place, Suite 203 | Jackson | MS | 39202 | 375,000.00
Montana Fair Housing, Inc | 501 East Front Street, Suite 533 | Butte | MT | 59701 | 325,675.00
Legal Aid of North Carolina, Inc | 224 S. Dawson St. | Raleigh | NC | 27601 | 375,000.00
High Plains Fair Housing Center | 406 Demers Road | Grand Forks | ND | 58201 | 375,000.00
Family Housing Advisory Services, Inc | 2401 Lake Street | Omaha | NE | 68111 | 375,000.00
New Hampshire Legal Assistance | 117 North State Street | Concord | NH | 03301 | 375,000.00
Silver State Fair Housing Council | 110 W Arroyo Street, Suite A | Reno | NV | 89509 | 350,776.00
CNY Fair Housing, Inc | 731 James Street, Suite 200 | Syracuse | NY | 13203 | 375,000.00
Housing Opportunities Made Equal, Inc | 1542 Main Street | Buffalo | NY | 14209 | 375,000.00
Westchester Residential Opportunities, Inc | 470 Mamaroneck Avenue, Suite 410 | White Plains | NY | 10605 | 375,000.00
Fair Housing Justice Center, Inc | 30-30 Northern Blvd. Suite 302 | Long Island City | NY | 11101 | 375,000.00
Fair Housing Opportunities, Inc. dba The Fair Housing Center | 326 N Erie St | Toledo | OH | 43604 | 375,000.00
Fair Housing Resource Center, Inc | 1100 Mentor Avenue | Painesville | OH | 44077 | 375,000.00
Fair Housing Contact Service, Inc | 441 Wolf Ledges Parkway, Suite 200 | Akron | OH | 44311 | 375,000.00
Fair Housing Rights Center in Southeastern Pennsylvania | 444 N 3rd Street, Suite 110 | Philadelphia | PA | 19123 | 375,000.00
Southwestern Pennsylvania Legal Services, Inc | 10 West Cherry Avenue | Washington | PA | 15205 | 375,000.00
Fair Housing Council of Suburban Philadelphia, Inc | 550 Pinetown Road, Suite 460 | Fort Washington | PA | 19034 | 375,000.00
West Tennessee Legal Services, Inc | 210 W Main Street | Jackson | TN | 38301 | 375,000.00
Tennessee Fair Housing Council, Inc | 107 Music City Circle, Suite 318 | Nashville | TN | 37214 | 375,000.00
North Texas Fair Housing Center | 8625 King George Drive, Suite 130 | Dallas | TX | 75235 | 375,000.00
San Antonio Fair Housing Council, Inc | 4414 Centerview Drive, Suite 229 | San Antonio | TX | 78228 | 375,000.00
Housing Opportunities Made Equal of Virginia, Inc | 626 East Broad Street, Suite 400 | Richmond | VA | 23219 | 375,000.00
Vermont Legal Aid, Inc | 264 N Winooski Ave | Burlington | VT | 05401 | 375,000.00
Northwest Fair Housing Alliance | 35 W. Main, Suite 250 | Spokane | WA | 99201 | 375,000.00
Fair Housing Center of Washington | 1517 Fawcett Avenue, Suite 250 | Tacoma | WA | 98402 | 375,000.00
Metropolitan Milwaukee Fair Housing Council | 759 North Milwaukee Street, Suite 500 | Milwaukee | WI | 53202 | 375,000.00
Alaska Legal Services Corporation | 1016 W 6th Avenue, Suite 200 | Anchorage | AK | 99051 | 375,000.00
Fair Housing Center of Northern Alabama | 1820 7th Avenue North, Suite 110 | Birmingham | AL | 35203 | 375,000.00
Inland Fair Housing and Mediation Board | 1500 South Haven Avenue, Suite 100 | Ontario | CA | 91761 | 375,000.00
Legal Aid Society of San Diego, Inc | 110 South Euclid Avenue | San Diego | CA | 92114 | 278,500.00
Fair Housing Advocates of Northern California | 1314 Lincoln Ave, Ste. A | San Rafael | CA | 94901 | 375,000.00
Bay Area Legal Aid | 1735 Telegraph Avenue | Oakland | CA | 94612 | 375,000.00
Equal Rights Center | 11 Dupont Circle, NW | Washington | DC | 20036 | 375,000.00
Legal Aid Chicago | 120 S Lasalle Street | Chicago | IL | 60602 | 375,000.00
Chicago Lawyers' Committee for Civil Rights Under Law | 100 N LaSalle Street | Chicago | IL | 60602 | 354,831.33
Access Living of Metropolitan Chicago | 115 West Chicago Avenue | Chicago | IL | 60654 | 375,000.00
South Coast Fair Housing, Inc. | 721 County Street | New Bedford | MA | 02740 | 375,000.00
Massachusetts Fair Housing Center Inc | 57 Suffolk Street | Holyoke | MA | 01040 | 375,000.00
Community Legal Aid, Inc | 405 Main Street | Worcester | MA | 01608 | 375,000.00
Pine Tree Legal Assistance | 88 Federal Street | Portland | ME | 04112 | 375,000.00
Mid-Minnesota Legal Assistance | 430 First Avenue North, Suite 300 | Minneapolis | MN | 55401 | 375,000.00
Metropolitan St. Louis Equal Housing and Opportunity Council | 1027 S Vandeventer Ave., 6th Floor | St. Louis | MO | 63110 | 375,000.00
Housing Education and Economic Development, Inc | 3405 Medgar Evers Boulevard | Jackson | MS | 39206 | 375,000.00
New Jersey Citizen Action Education Fund, Inc | 625 Broad Street | Newark | NJ | 07102 | 375,000.00
Fair Housing Council of Northern New Jersey | 131 Main Street, Suite 140 | Hackensack | NJ | 07601 | 375,000.00
Legal Assistance of Western New York, Inc | 361 South Main | Geneva | NY | 14456 | 375,000.00
Long Island Housing Services, Inc | 640 Johnson Avenue | Bohemia | NY | 11716 | 375,000.00
Brooklyn Legal Services | 105 Court Street | Brooklyn | NY | 11201 | 375,000.00
Housing Research & Advocacy Center | 2728 Euclid Ave., Suite 200 | Cleveland | OH | 44115 | 375,000.00
Housing Opportunities Made Equal of Greater Cincinnati, Inc | 2400 Reading Road Suite 118 | Cincinnati | OH | 45202 | 375,000.00
Ohio State Legal Services Association | 1108 City Park Avenue | Columbus | OH | 43206 | 375,000.00
Metropolitan Fair Housing Council of Oklahoma, Inc | 312 NE 28th Street, Suite 112 | Oklahoma City | OK | 73105 | 375,000.00
Legal Aid Services of Oklahoma, Inc | 2915 N Classen Blvd | Oklahoma City | OK | 73106 | 375,000.00
Fair Housing Council of Oregon | 1221 SW Yamhill St. #305 | Portland | OR | 97205 | 375,000.00
Greater Houston Fair Housing Center, Inc | P.O. Box 292 | Houston | TX | 77001 | 375,000.00
Austin Tenants' Council | 1640-B East 2nd St., Suite 150 | Austin | TX | 78702 | 375,000.00
Disability Law Center | 205 North 400 West | Salt Lake City | UT | 84103 | 374,580.00
Total |  |  |  |  | 34,556,620.66

Appendix H

FY 2021 Fair Housing Initiatives Program (FHIP)—Tester Training (FR-6500-N-71A)

Contact: Stephanie Waller (202) 402-6938.

Legal Name | Address | City | State | Zip code | Amount
Metropolitan Milwaukee Fair Housing Council | 759 North Milwaukee Street, Suite 500 | Milwaukee | WI | 53202 | $499,149.00
Total |  |  |  |  | 499,149.00

Appendix I

FY2021 Healthy Homes Weatherization Cooperation Demonstration Program (FR-6500-FA-62)

Contact: Brenda M. Reyes, MD, MPH. Brenda.m.reyes@hud.gov.

Organizations | Street Address of P.O. Box | City | State | ZIP Codes | Amount
Baltimore City Dept. of Housing & Community Development | 417 E Fayette St | Baltimore | MD | 21202 | $1,000,000.00
Green & Healthy Homes Initiative, Inc | 2714 Hudson St | Baltimore | MD | 21224 | 1,000,000.00
Piedmont Triad Regional Council | 1398 Carrollton Crossing Dr | Kernersville | NC | 27284 | 1,000,000.00
Community Relations-Social Development Commission | 1730 W North Avenue | Milwaukee | WI | 53205 | 1,000,000.00
Wayne Metropolitan Community Action Agency | 7310 Woodward Avenue, Suite 800 | Detroit | MI | 48202 | 1,000,000.00
Total |  |  |  |  | 5,000,000.00

Appendix J

FY2021 Lead Technical Studies Grant Program (FR-6500-FA-15)

Contact: Dr. J, Kofi Berko, Jr. (202) 402-7696.

Organization | Address | City | State | Zip | Award
National Center for Healthy Housing | 10320 Little Patuxent Pkwy., Suite 200 | Columbia | MD | 21044 | $699,696
The Research Foundation for SUNY on behalf of U. at Buffalo | The UB Commons, 520 Lee Entrance, Suite 211 | Amherst | NY | 14228 | 659,499
Michigan Technological University | 1400 Townsend Drive | Houghton | MI | 49931 | 699,916
QuanTech, Inc | 6110 Executive Blvd., STE 206 | Rockville | MD | 20852 | 648,549
Michigan State University | 426 Auditorium Road Room 2 | East Lansing | MI | 48824 | 699,264
Kansas State University | 2 Fairchild Hall, 1601 Vattier Street | Manhattan | KS | 66506 | 700,000
Total |  |  |  |  | 4,106,924

Appendix K

FY2021 Healthy Homes Technical Studies Grant Program (FR-6500-FA-15)

Contact: Dr. J, Kofi Berko, Jr. (202) 402-7696.

Organization Name | Address | City | State | Zip | Award
The University of Tulsa | 800 S Tucker Drive | Tulsa | OK | 74104 | $999,831
Berkeley Air Monitoring Group, Inc | 1935 Addison Street, Suite A | Berkeley | CA | 94704 | 886,448
Duke University | Pratt School of Engineering, 2200 W Main St. Ste 710 | Durham | NC | 27705 | 1,000,000
National Center for Healthy Housing | 10320 Little Patuxent Pkwy, Suite 200 | Columbia | MD | 21044 | 1,000,000
Three3 Inc | 520 W Summit Hill Dr., Suite 1101 | Knoxville | TN | 37902 | 999,002
University of Iowa | 2 Gilmore Hall | Iowa City | IA | 52242 | 700,000
President and Fellows of Harvard College | 677 Huntington Avenue | Boston | MA | 02115 | 1,000,000
Total |  |  |  |  | 6,585,281

Appendix L

FY 2020 Choice Neighborhoods Implementation Grants (FR-6400-FA-34)

Contact: Luci Blackburn (202) 402-4190.

Organization | Address | City | State | Zip | Award Amount
Housing Authority of the City of Fort Myers | 4224 Renaissance Preserve Way | Fort Myers | FL | 33916 | $30,000,000.00
Lewiston Housing Authority | 1 College Street | Lewiston | ME | 04240 | 30,000,000.00
City of Detroit | 2 Woodward Avenue #1126 | Detroit | MI | 48226 | 30,000,000.00
Cuyahoga Metropolitan Housing Authority | 8120 Kinsman Road | Cleveland | OH | 44104 | 35,000,000.00
Housing Authority of the City of Camden | 2021 Watson Street, 2nd Floor | Camden | NJ | 08105 | 35,000,000.00
Total |  |  |  |  | 160,000,000.00

Appendix M

FY2020 HOPE VI Main Street Program (FR-6400-FA-03)

Contact: Susan Wilson (202) 402-4500.

Organization name | Address | City | State | Zip code | Award Amount
City of El Cerrito | 10890 San Pablo Avenue | El Cerrito | CA | 94530-2321 | $500,000
Town of Kit Carson | 301 Main Street, P.O. Box 375 | Kit Carson | CO | 80825-0375 | 500,000
City of Stayton | 362 N Third Ave | Stayton | OR | 97383-1726 | 500,000
Total |  |  |  |  | 1,500,000

Appendix N

FY2020 Housing Related Hazards (FR-6200-FA-68)

Contact: David Fleischman (202) 402-2071.

Organization | Address | City | State | Zip code | Amount
Los Angeles County Development Authority | 700 West Main Street | Los Angeles | CA | 91801 | $2,725,100.00
Housing Authority of the City and County of Denver | P.O. Box 40305 Santa Fe Drive Station | Denver | CO | 80204 | 505,787.00
Housing Authority of the City of New Haven | 360 Orange Street #1 | New Haven | CT | 6510 | 3,999,993.00
Wilmington Housing Authority | 400 N Walnut Street | Wilmington | DE | 19801 | 1,473,800.00
Pittsfield Housing Authority | 65 Columbus Avenue | Pittsfield | MA | 1201 | 133,328.00
Lowell Housing Authority | 350 Moody Street | Lowell | MA | 1879 | 186,293.00
Worcester Housing Authority | 40 Belmont Street | Worcester | MA | 1605 | 1,732,960.00
Flint Housing Authority | 3820 Richfield Road | Flint | MI | 48506 | 1,078,475.00
Asheboro Housing Authority | 338 W Wainman Avenue | Asheboro | NC | 27204 | 439,765.00
Rockingham Housing Authority | 809 Armistead Street | Rockingham | NC | 28379 | 70,000.00
Housing Authority of the City of Camden | 2021 Watson Street, 2nd Floor | Camden | NJ | 8105 | 33,143.00
Rochester Housing Authority | 675 West Main Street | Rochester | NY | 14611 | 896,649.00
Cuyahoga Metropolitan Housing Authority | 8120 Kinsman Road | Cuyahoga | OH | 44104 | 1,732,960.00
Harrison Metropolitan Housing Authority | 82450 Cadiz-Jewett Road | Harrison | OH | 43907 | 145,000.00
Pickaway Metropolitan Housing Authority | 176 Rustic Drive | Circleville | OH | 43113 | 708,742.00
The Housing Authority of the City of Lancaster | 325 Church Street | Lancaster | PA | 17602 | 880,005.00
Housing Authority of the City of Pawtucket | 214 Roosevelt Avenue | Pawtucket | RI | 2862 | 3,258,000.00
Total |  |  |  |  | 20,000,000.00

Appendix O

FY2020 Housing Related Hazards (FR-6200-FA-68)

Contact: David Fleischman (202) 402-2071.

Organization | Address | City | State | Zip code | Amount
Housing Authority of the City of Conway | 335 S Mitchell Street | Conway | AR | 72034 | $250,000.00
Housing Authority of the City of Luxora | 316 Cedar Street P.O. Box 70 | Luxora | AR | 72358 | 40,000.00
City of Sacramento Housing Authority | 801 12th Street | Sacramento | CA | 95814 | 250,000.00
City of Eureka Housing Authority | 735 W Everding Street | Eureka | CA | 95503 | 250,000.00
Wilmington Housing Authority | 400 Walnut Street | Wilmington | DE | 19801 | 247,500.00
Housing Authority of the City of Glennville | P.O. Box 37 | Glennville | GA | 30427 | 244,578.00
Housing Authority of the City of Perry | 822 Perimeter Road | Perry | GA | 31069 | 60,000.00
Ottumwa Housing Authority | 935 West Main Street | Ottumwa | IA | 52501 | 36,560.00
Housing Authority of the City of Freeport | 1052 W Galena Avenue | Freeport | IL | 61032 | 231,485.00
Housing Authority of Edgard County | 604 Highland Drive | Edgard | IL | 61944 | 125,000.00
Housing Authority of South Bend | 501 Alonzo Watson Drive | South Bend | IN | 46601 | 103,461.00
Sullivan Housing Authority | 200 Sunrise Towers | Sullivan | IN | 47882 | 250,000.00
Housing Authority of Covington | P.O. Box 15279 | Covington | KY | 41015 | 95,000.00
Housing Authority of Lexington | 300 West New Circle Road | Lexington | KY | 40505 | 250,000.00
Pineville Housing Authority | P.O. Box 3190 | Pineville | LA | 71360 | 27,540.00
Housing Authority of the Town of Mansfield | P.O. Box 1020 | Mansfield | LA | 71052 | 250,000.00
Fall River Housing Authority | 85 Morgan Street | Fall River | MA | 2722 | 250,000.00
Chicopee Housing Authority | 128 Meetinghouse Road | Chicopee | MA | 1013 | 164,067.00
Taunton Housing Authority | 30 Olney Street, Suite B | Taunton | MA | 2780 | 250,000.00
Falmouth Housing Authority | 115 Scranton Avenue | Falmouth | MA | 2540 | 78,963.00
Needham Housing Authority | 28 Captain Robert Cook Drive | Needham | MA | 2494 | 250,000.00
Brewer Housing Authority | 15 Colonial Circle Suite 1 | Brewer | ME | 4412 | 22,811.00
Grand Rapids Housing Commission | 1420 Fuller Avenue SE | Grand Rapids | MI | 49507 | 249,984.00
St. Louis Housing Authority | 3520 Page Boulevard | St. Louis | MO | 63106 | 123,277.00
Marshall Housing Authority | 275 S Redman Avenue | Marshall | MO | 65340 | 16,000.00
Housing Authority of the City of Independence | 4215 S Hocker Drive Building 5 | Independence | MO | 64055 | 249,278.00
Housing Authority of the City of Lumberton | P.O. Box 709 | Lumberton | NC | 28359 | 239,500.00
Housing Authority of Cass County | 230 8th Avenue W | Cass | ND | 58078 | 69,700.00
Rolette Housing Authority | P.O. Box 567 | Rolette | ND | 58366 | 250,000.00
Omaha Housing Authority | 1823 Harney Street | Omaha | NE | 68102 | 247,000.00
Clay Center Housing Authority | 114 E Division Street | Clay | NE | 68933 | 114,522.00
Edgar Housing Authority | 406 North B. Street | Edgar | NE | 68935 | 40,654.00
Trenton Housing Authority | 899 Southard Street | Trenton | NJ | 8638 | 250,000.00
Clementon Housing Authority | 22 Gibbsboro Road | Clementon | NJ | 8021 | 210,857.00
New York City Housing Authority | 90 Church Street Room 10-405 | NYC | NY | 10007 | 225,000.00
Utica Housing Authority | 509 Second Street | Utica | NY | 13501 | 250,000.00
Town of Oyster Bay Housing Authority | 115 Central Park Road | Oyster Bay | NY | 11803 | 250,000.00
Cuyahoga Metropolitan Housing Authority | 8120 Kinsman Road | Cuyahoga | OH | 44104 | 250,000.00
Cincinnati Metropolitan Housing Authority | 1044 West Liberty | Cincinnati | OH | 45214 | 250,000.00
Philadelphia Housing Authority | 2013 Ridge Avenue | Philadelphia | PA | 19121 | 250,000.00
Chester Housing Authority | 1111 Avenue of the States | Chester | PA | 19013 | 250,000.00
Montgomery County Housing Authority | 104 W Main Street, Suite 1 | Norristown | PA | 19401 | 100,000.00
Housing Authority of the City of Lancaster | 325 Church Street | Lancaster | PA | 17602 | 186,982.00
Housing Authority of the County of Lebanon | 1220 Mifflin Street, P.O. Box 420 | Lebanon | PA | 17042 | 250,000.00
Woonsocket Housing Authority | 679 Social Street | Woonsocket | RI | 2895 | 244,188.00
Housing Authority of Spartanburg | P.O. Box 2828 | Spartanburg | SC | 29304 | 190,330.00
Union City Housing Authority | 1409 E Main Street | Union City | TN | 38261 | 250,000.00
Pulaski Housing Authority | P.O. Box 1058 | Pulaski | TN | 38478 | 213,150.00
Housing Authority of Waxahachie* | 208 N Patrick Street | Waxahachie | TX | 75165 | 73,441.00
Housing Authority of Corsicana | 1360 N 13th Street | Corsicana | TX | 75110 | 231,900.00
Robstown Housing Authority | 625 W Avenue F | Robstown | TX | 78380 | 236,419.00
Housing Authority City of Alpine | 1024 N 5th Street | Alphine | TX | 79830 | 9,250.00
Scott County Redevelopment & Housing Authority | P.O. Box 266 | Authority | VA | 24244 | 250,000.00
Seattle Housing Authority | 190 Queen Anne Avenue N P.O. Box 19028 | Seattle Housing | WA | 98109 | 179,270.00
Housing Authority of the City of Barron | 611 Woodland Avenue Suite 25 | Barron | WI | 54812 | 72,333.00
Total |  |  |  |  | 10,000,000.00

Appendix P

FY2021 Emergency and Natural Disaster Receivership

Contact: David Fleischman (202) 402-2071.

Organization | Address | City | State | Zip | Amount
Alexander County Housing Authority | 1101 Ohio Street | Cairo | IL | 62914 | $4,690,971
Highland Park Housing Commission | 12050 Woodward Avenue | Highland Park | MI | 48203 | 1,509,246
New York City Housing Authority | 200 South Pearl Street | New York | NY | 10007-2516 | 38,799,784
Total |  |  |  |  | 45,000,000

Appendix Q

FY2021 Emergency and Natural Disaster

Contact: David Fleischman (202) 402-2071.

Organization | Address | City | State | Zip code | Amount
Howard County Housing Authority | P.O. Box 238 | Nashville | AR | 71852 | $1,139,433
Keokuk Housing Authority | 111 South 2nd Street | Keokuk | IA | 52632 | 821,974
Housing Authority of the City of Yale | 100 Watson Drive, P.O. Box 265 | Yale | OK | 74085 | 216,804
DeSmet Housing Authority | 408 Calumet Avenue NE | DeSmet | SD | 57231 | 65,219
Housing and Redevelopment Commission of Pierre | 301 West Pleasant Drive | Pierre | SD | 57501 | 341,800
Village of Grantsburg Housing Authority | 213 W Burnet Avenue | Grantsburg | WI | 54840 | 75,300
East Chicago Housing Authority | 4444 Railroad Avenue, P.O. Box 498 | East Chicago | IN | 46312 | 1,543,154
Total |  |  |  |  | 4,203,684

Appendix R

PIH Notice 2021-09 Tribal VASH Supportive Housing Renewal

Contact: Hilary Atkin, (202) 402-3427.

Organization | Address | City | State | Zip code | Amount
AVCP Regional Housing Authority | P.O. Box 767 | Bethel | AK | 99559 | $55,044
Cook Inlet Housing Authority | 3510 Spenard Road, Suite 100 | Anchorage | AK | 99503 | 150,655
Tlingit Haida Regional Housing Authority | P.O. Box 32237 | Juneau | AK | 99803 | 173,253
Hopi Housing Authority | P.O. Box 906 | Polacca | AZ | 86042 | 188,403
Navajo Housing Authority | P.O. Box 4980 | Window Rock | AZ | 86515 | 281,152
San Carlos Housing Authority | P.O. Box 740 | Peridot | AZ | 85542-0740 | 80,946
Tohono O'odham K:K: Association | P.O. Box 790 | Sells | AZ | 85634 | 417,931
Leech Lake Housing Authority | 611 Elm Ave | Cass Lake | MN | 56633 | 63,370
White Earth Reservation Housing Authority | 3303 U.S. Hwy 59 | Waubun | MN | 56589 | 66,050
Blackfeet Housing Authority | P.O. Box 449 | Browning | MT | 59417 | 210,584
Lumbee Tribe of North Carolina | 6984 Highway 711 | Pembroke | NC | 28372 | 178,529
Standing Rock Housing Authority | P.O. Box 769 | Fort Yates | ND | 58538 | 86,538
Turtle Mountain Housing Authority | P.O. Box 620 | Belcourt | ND | 58316 | 110,516
Zuni Housing Authority | P.O. Box 710 | Zuni | NM | 87327 | 71,286
Cherokee Nation | P.O. Box 948 | Tahlequah | OK | 74465 | 86,484
Cheyenne-Arapaho Tribes | P.O. Box 167 | Concho | OK | 73022 | 148,128
Choctaw Nation | P.O. Drawer 1210 | Durant | OK | 74702 | 104,148
Muscogee Creek Nation | P.O. Box 580 | Okmulgee | OK | 74447 | 163,012
Osage Nation | P.O. Box 779 | Pawhuska | OK | 74056 | 131,714
Warm Springs Housing Authority | P.O. Box 1167 | Warm Springs | OR | 97761-1167 | 42,121
Oglala Sioux Lakota Housing | P.O. Box 603 | Pine Ridge | SD | 57770 | 69,925
Sicangu Wicoti Awayankapi Corporation | P.O. Box 69 | Rosebud | SD | 57570 | 33,323
Colville Indian Housing Authority | P.O. Box 528 | Nespelem | WA | 99155-0528 | 36,765
Spokane Indian Housing Authority | P.O. Box 195 | Wellpinit | WA | 99040-0195 | 171,630
Yakama Nation Housing Authority | P.O. Box 156 | Wapato | WA | 98951-0156 | 140,590
Oneida Nation of Wisconsin | P.O. Box 68 | Oneida | WI | 54155 | 114,965
Total |  |  |  |  | 3,377,062

Appendix S

FY2020 Indian Housing Block Grant Competitive (FR-6400-FA-48)

Contact: Hilary Atkin, 202 402-3427.

Organization | Address | City | State | Zip code | Amount
Hydaburg Cooperative Association | P.O. Box 349 | Hydaburg | AK | 99922 | $1,893,691
Tagiugmiullu Nunamiulla Housing Association | P.O. Box 409 | Utqiagvik | AK | 99723 | 4,292,814
White Mountain Apache Housing Authority | P.O. Box 1270 | Whiteriver | AZ | 85941-1270 | 5,000,000
Fort Independence Community of Paiutes of Fort Independence | P.O. Box 67 | Independence | CA | 93526-0067 | 2,000,000
Hoopa Valley Housing Authority | P.O. Box 1285 | Hoopa | CA | 95546-1285 | 5,000,000
Karuk Tribe Housing Authority | P.O. Box 1159 | Happy Camp | CA | 96039-1159 | 2,035,648
La Posta Band of Mission Indians | P.O. Box 1120 | Boulevard | CA | 91905-1120 | 1,467,835
Tule River Indian Housing Authority | 342 N Reservation Road | Porterville | CA | 93257 | 4,900,652
Nez Perce Tribal Housing Authority | P.O. Box 188 | Lapwai | ID | 83540 | 4,798,703
Nottawaseppi Huron Band of the Potawatomi | 2221 1½ Mile Road | Fulton | MI | 49052 | 2,459,530
Eastern Shoshone Housing Authority | P.O. Box 1250 | Fort Washakie | WY | 82514 | 5,000,000
Fort Belknap Housing Authority | 668 Agency Main St | Harlem | MT | 59526 | 5,000,000
Nambe Pueblo Housing Entity | 11 West Gutierrez, Unit 3456 | Santa Fe | NM | 87506-0217 | 1,205,977
Pueblo of Acoma Housing Authority | P.O. Box 620 | Acoma Pueblo | NM | 87034-0620 | 5,000,000
Pueblo of Isleta | P.O. Box 760 | Isleta | NM | 87022-0760 | 5,000,000
Pueblo of Jemez Housing Authority | P.O. Box 670 | Jemez Pueblo | NM | 87024 | 5,000,000
Duck Valley Housing Authority | P.O. Box 129 | Owyhee | NV | 89832-0129 | 5,000,000
Comanche Nation | 1918 East Gore Blvd | Lawton | OK | 73501 | 5,000,000
Quapaw Tribe | P.O. Box 765 | Quapaw | OK | 74363 | 2,309,325
Wichita and Affiliated Tribes Housing Authority | 1 Coronado Circle | Anadarko | OK | 73005 | 3,170,000
Wyandotte Nation | 64700 E Highway 60 | Wyandotte | OK | 74370 | 1,341,647
Crow Creek Sioux Tribe and Crow Creek Housing Authority | 241 South Central Circle | Fort Thompson | SD | 57339 | 4,137,560
Oglala Sioux (Lakota) Housing | 4 SuAnne Center Drive | Pine Ridge | SD | 57770 | 5,000,000
Muckleshoot Indian Tribe dba Muckleshoot Housing Authority | 38037 158th Avenue SE | Auburn | WA | 98092 | 5,000,000
Total |  |  |  |  | 91,013,382

Appendix T

PIH Notice 2021-09 Tribal VASH Supportive Housing Renewal (FR-6400-N-73)

Contact: Hilary Atkin, 202 402-3427.

Organization | Address | City | State | Zip code | Amount
Tlingit Haida Regional Housing Authority | 5446 Jenkins Drive | Juneau | AK | 99801-9511 | $143,136
Fort Hall Housing Authority | 161 Wardance Circle | Pocatello | ID | 83202 | 133,320
Apsaalooke Nation Housing Authority | P.O. Box 99 | Crow Agency | MT | 59022-0098 | 222,900
Lumbee Tribe of North Carolina | 6984 Highway 711 | Pembroke | NC | 28372 | 197,130
Muscogee Creek Nation | P.O. Box 580 | Okmulgee | OK | 74447 | 325,332
Total |  |  |  |  | 1,021,818

Appendix U

FY2020 Jobs Plus Initiative (FR-6400-FA-14)

Contact: Leigh Van Rij (202)402-5788.

Organization | Address Line | City | State | Zip | Amount grant funds
Rock Hill Housing Authority | 467 South Wilson Street | Rock Hill | SC | 29730 | $2,300,000
San Antonio Housing Authority | 818 S Flores Street | San Antonio | TX | 78204 | 2,300,000
Housing Authority of the City of Goldsboro | 700 N Jefferson Ave | Goldsboro | NC | 27530 | 2,300,000
Philadelphia Housing Authority | 2013 Ridge Avenue | Philadelphia | PA | 19121 | 2,979,543
Detroit Housing Commission | 1301 E Jefferson Ave | Detroit | M | 48207 | 2,300,000
Warner Robins Housing Authority | 112 Memorial Terrace Drive | Warner Robins | GA | 31093 | 2,300,000
Housing Authority of the City of Wilmington, North Carolina | 1524 South 16th Street | Wilmington | NC | 28401 | 2,300,000
Palm Beach County Housing Authority | 3432 West 45th Street | West Palm Beach | FL | 33407 | 2,300,000
Houston Housing Authority (HHA) | 2640 Fountain View Drive | Houston | TX | 77057 | 2,300,000
Chesapeake Redevelopment and Housing Authority | 1468 S Military Hwy | Chesapeake | VA | 23320 | 2,300,000
Rockford Housing Authority | 223 S Winnebago St | Rockford | IL | 61102 | 2,300,000
City of Roanoke Redevelopment and Housing Authority | 2624 Salem Turnpike NW | Roanoke | VA | 24017 | 2,300,000
Total |  |  |  |  | 28,279,543

Appendix V

FY2020 Resident Opportunity & Efficiency Service Coordinator (ROSS-SC) (FR-6400-N-05)

Grant Program Contact: Tremayne Youmans (202) 402-6621.

Organization | Address | City | State | Zip code | Total award amount
Bessemer Non-Profit Development Corporation | 1100 Fifth Ave | Bessemer | AL | 35020 | $239,250.00
Bessemer Non-Profit Development Corporation | 1100 Fifth Ave | Bessemer | AL | 35080 | 239,250.00
AL068 Sheffield Housing Authority | 505 N Columbia Avenue | Sheffield | AL | 35660 | 163,500.00
City of Anniston Housing Authority | 500 Glen Addie Avenue | Anniston | AL | 36201 | 166,255.00
Prichard Housing Authority | 200 W Prichard Ave | Prichard | AL | 36610 | 239,250.00
Friendly House, Inc | 113 W Sherman Street | Phoenix | AZ | 85003 | 239,250.00
Pinal County Housing Department | 970 N Eleven Mile Corner Rd | Casa Grande | AZ | 85194 | 239,091.00
Northern Circle Indian Housing Authority | 694 Pinoleville Rd | Ukiah | CA | 95482 | 211,005.00
Housing Authority of the City of San Buenaventura | 995 Riverside Street | Ventura | CA | 93001 | 239,250.00
Chico Rancheria Housing Corporation | 2889 Cohasset Rd. Suite 3 | Chico | CA | 95973 | 231,217.00
Housing Authority of the County of Santa Barbara | 815 West Ocean Avenue | Lompoc | CA | 93436 | 239,250.00
San Pasqual Band of Mission Indians | 16400 Kumeyaay Way | Valley Center | CA | 92082 | 231,000.00
Housing Authority of the City of Madera | 205 North G Street | Madera | CA | 93637 | 239,250.00
Bishop Paiute Tribe | 50 Tu Su Lane | Bishop | CA | 93514 | 176,818.00
Los Angeles County Development Authority (LACDA) | 700 West Main Street | Alhambra | CA | 91801 | 713,621.00
Housing Authority of the City of Sacramento | 801 12th Street | Sacramento | CA | 95814 | 478,500.00
Karuk Tribe Housing Authority | P.O. Box 1159 | Happy Camp | CA | 96039 | 227,940.00
Ute Mountain Housing Authority | P.O. Box EE | Towaoc | CO | 81334 | 222,750.00
City of Englewood Housing Authority | 3460 S Sherman St | Englewood | CO | 80113 | 216,081.00
Walsh Manor Local Resident Council | 1790 West Mosier Place | Denver | CO | 80223 | 231,740.00
Westridge Local Resident Council | 3550 West 13th Avenue | Denver | CO | 80204 | 210,283.00
Westwood Local Resident Council | 855 South Irving Street | Denver | CO | 80219 | 232,311.00
The Housing Authority of the Town of Greenwich | 249 Milbank Avenue | Greenwich | CT | 6830 | 239,250.00
Housing Authority of the City of New Britain | 16 Armistice Street | New Britain | CT | 6053 | 239,250.00
Housing Authority of the City of Danbury | 2 Mill Ridge Road | Danbury | CT | 6811 | 239,250.00
Stamford Housing Authority (AKA: Charter Oak Communities) | 22 Clinton Avenue | Stamford | CT | 6901 | 239,250.00
Housing Authority of the City of Meriden | 22 Church St | Meriden | CT | 6451 | 239,250.00
Bristol Housing Authority | 164 Jerome Avenue | Bristol | CT | 6010 | 239,250.00
United Way of Suwannee Valley | 871 SW State Road 47 | Lake City | FL | 32025 | 147,057.00
Housing Authority of the County of Flagler, Florida | 414 N Bacher Street | Bunnell | FL | 32110 | 239,250.00
Housing Authority of the City of St. Petersburg | 2001 Gandy Boulevard | St. Petersburg | FL | 33702 | 186,850.00
Pahokee Housing Authority | 465 Friend Terrace | Pahokee | FL | 33476 | 206,107.00
Punta Gorda Housing Authority | 340 Gulf Breeze Avenue | Punta Gorda | FL | 33950 | 239,250.00
Housing Authority of the City of Titusville | 524 S Hopkins Avenue | Titusville | FL | 32796 | 225,866.00
Palm Beach County Housing Authority | 3432 West 45th Street | West Palm Beach | FL | 33407 | 239,250.00
The Manatee County Housing Authority | 5631 11th Street E | Bradenton | FL | 34203 | 239,250.00
Sarasota Housing Authority | 269 S Osprey Ave | Sarasota | FL | 34236 | 216,684.00
Lakeland Housing Authority | 430 Hartsell Avenue Lakeland | Lakeland | FL | 33815 | 198,900.00
City of Thomaston Housing Authority | 574 Triune Mill Rd | Thomaston | GA | 30286 | 239,250.00
Northwest Georgia Housing Authority | 326 West 9th Street | Rome | GA | 30162 | 239,250.00
Valdosta Housing Authority | 610 East Ann Street | Valdosta | GA | 31601 | 239,250.00
Housing Authority of Newnan | 48 Ball Street | Newman | GA | 30263 | 239,250.00
City of Des Moines Municipal Housing Agency | 2309 Euclid Ave | Des Moines | IA | 50310 | 239,250.00
Eastern Iowa Regional Housing Authority | 7600 Commerce Park | Dubuque | IA | 52002 | 239,250.00
Nez Perce Tribal Housing Authority | P.O. Box 188 | Lapwai | ID | 83540 | 239,250.00
Rock Island Housing Authority | 227 21st Street | Rock Island | IL | 61201 | 186,699.00
Moline Housing Authority | 4141 11th Avenue A | Moline | IL | 61265 | 208,140.00
Decatur Housing Authority | 1808 E Locust St | Decatur | IL | 62521 | 229,029.00
Housing Authority of the City of Bloomington | 104 E Wood Street | Bloomington | IL | 61701 | 215,397.00
Aurora Housing Authority | 1449 Jericho Circle | Aurora | IL | 60506 | 239,250.00
Housing Authority; City of Danville | 1607 Clyman Ln | Danville | IL | 61832 | 157,956.00
Macoupin County Housing Authority | 760 Anderson Street | Carlinville | IL | 62626 | 141,485.00
Rockford Housing Authority | 233 South Winnebago Street | Rockford | IL | 61102 | 239,250.00
Housing Authority of the Village of Oak Park | 21 South Blvd | Oak Park | IL | 60302 | 218,068.00
Housing Authority of Cook County | 175 W Jackson Blvd | Chicago | IL | 60604 | 239,250.00
Housing Authority of the City of Kokomo | 210 E Taylor St | Kokomo | IN | 46903 | 184,182.00
The Housing Authority of the City of New Albany, IN | P.O. Box 11 | New Albany | IN | 47150 | 212,118.00
Housing Authority of the City of Bloomington | 1007 North Summit Street | Bloomington | IN | 47404 | 202,148.00
Marion Housing Authority | 601 S Adams St | Marion | IN | 46953 | 239,250.00
Housing Authority of Covington | 2300 Madison Avenue | Covington | KY | 41014 | 230,175.00
Louisville Metro Housing Authority | 420 South Eighth Street | Louisville | KY | 40203 | 717,750.00
Bryant Way Resident Council | 247 Double Springs Road | Bowling Green | KY | 42101 | 191,942.00
Summit View/Gordon Ave. Resident Council | 247 Double Springs Rd | Bowling Green | KY | 42101 | 176,746.00
Housing Authority of the City of Opelousas | 906 E Laurent Street | Opelousas | LA | 70571 | 239,250.00
Lake Providence Housing Authority | 226 Foster Street | Lake Providence | LA | 71254 | 239,250.00
Housing Authority of New Orleans | 4100 Touro St | New Orleans | LA | 70122 | 478,500.00
Newton Housing Authority | 82 Lincoln Street | Newton | MA | 2461 | 234,750.00
Falmouth Housing Authority | 115 Scranton Avenue | Falmouth | MA | 2540 | 239,250.00
Quincy Housing Authority | 80 Clay Street | Quincy | MA | 2169 | 239,250.00
New Bedford Housing Authority | 128 Union Street, 4th floor | New Bedford | MA | 2740 | 239,250.00
Norwood Housing Authority | 40 William Shyne Circle | Norwood | MA | 2062 | 239,250.00
Medway Housing Authority | 600 Mahan Circle | Medway | MA | 2053 | 239,250.00
Plymouth Housing Authority | 130 Court Street | Plymouth | MA | 2361 | 239,250.00
Maverick Landing Community Services, Inc | 31 Liverpool Street | Boston | MA | 2128 | 196,117.00
Housing Auth. of the City of Frostburg | 101 Meshach Frost Village | Frostburg | MD | 21532 | 166,277.00
Housing Authority City of College Park | 9014 Rhode Island Ave | College Park | MD | 20740 | 239,250.00
Portland Housing Authority | 14 Baxter Boulevard | Portland | ME | 4101 | 239,250.00
Presque Isle Housing Authority | 58 Birch St | Presque Isle | ME | 4769 | 239,250.00
Inkster Housing Commission | 4500 Inkster Rd | Inkster | MI | 48141 | 227,860.00
Moorhead Public Housing Agency | 800 2nd Ave N | Moorhead | MN | 56560 | 237,600.00
Northwest Minnesota Multi-County Housing Authority | 205 Garfield Avenue | Mentor | MN | 56736 | 239,250.00
White Earth Reservation Housing Authority | 3303 U.S. Hwy 59 | Waubun | MN | 56589 | 221,500.00
Housing Authority of the City of Poplar Bluff | 302 North E Street | Poplar Bluff | MO | 63902 | 239,250.00
Independence Housing Authority | 4215 S Hocker Dr | Independence | MO | 64055 | 239,250.00
Natchez Housing Authority | 2 Auburn Avenue | Natchez | MS | 39120 | 239,250.00
Choctaw Housing Authority | 13660 Highway 16 W | Choctaw | MS | 39350 | 217,710.00
MHA Housing Development Corporation | 2425 E Street | Meridian | MS | 39302 | 239,250.00
MHA Housing Development Corp | 2425 E Street | Meridian | MS | 39302 | 239,250.00
MHA Housing Development Corp | 2425 E Street | Meridian | MS | 39302 | 239,250.00
Housing Authority of the City of High Point | 500 E. Russell Ave | High Point | NC | 27260 | 186,953.00
Sanford Housing Authority | P.O. Box 636 | Sanford | NC | 27331 | 183,000.00
Lumbee Regional Development Association | 636 Prospect Road | Pembroke | NC | 28372 | 239,250.00
Housing Authority of the City of Lumberton | 407 N Sycamore St | Lumberton | NC | 28358 | 239,250.00
Greensboro Housing Authority | 450 N Church Street | Greensboro | NC | 27401 | 239,250.00
North Wilkesboro Housing Authority | 101 Hickory Street | North Wilkesboro | NC | 28659 | 239,250.00
Washington Housing Authority | 809 Pennsylvania Ave | Washington | NC | 27889 | 239,250.00
Ayden Housing Authority | 4613 Liberty Street | Ayden | NC | 28513 | 239,250.00
Northern Ponca Housing Authority | 1501 W Michigan Ave | Norfolk | NE | 68701 | 186,326.00
Santee Sioux Nation | 425 Frazier Ave. N Suite #2 | Niobrara | NE | 68760 | 185,526.00
Berlin Housing Authority | 10 Serenity Circle | Berlin | NH | 3570 | 239,250.00
New Jersey Institute for Disabilities | 10A Oak Drive—Roosevelt Park | Edison | NJ | 8837 | 239,250.00
Phillipsburg Housing Authority | 530 Heckman Street | Phillipsburg | NJ | 8865 | 239,250.00
Housing Authority of the City of Elizabeth | 688 Maple Avenue | Elizabeth | NJ | 7202 | 478,500.00
Housing Authority of the City of Rahway | 165 East Grand Avenue | Rahway | NJ | 7065 | 239,250.00
Clementon Housing Authority | 22 Gibbsboro Rd | Clementon | NJ | 8021 | 239,250.00
Housing Authority of the City of Jersey City | 400 U.S. Highway #1 | Jersey City | NJ | 7306 | 239,250.00
Albany Housing Authority | 200 Green Street | Albany | NY | 12202 | 231,000.00
Rochester Housing Authority | 675 West Main Street | Rochester | NY | 14611 | 478,500.00
Niagara Falls Housing Authority | 744 Tenth Street | Niagara Falls | NY | 14301 | 216,913.00
Citywide Council of Syracuse Low Income Housing Residents | 516 Burt Street | Syracuse | NY | 13202 | 239,250.00
Ocean Bay Community Development Corporation | 434 Beach 54th Street | Arverne | NY | 11692 | 657,872.00
Community Development Corporation of Long Island, Inc. | 2100 Middle Country Road | Centereach | NY | 11720 | 195,777.00
Akron Metropolitan Housing Authority | 100 W Cedar St | Akron | OH | 44307 | 717,750.00
Lucas Metropolitan Housing Authority | 435 Nebraska Avenue | Toledo | OH | 43697 | 423,352.00
Zanesville Metropolitan Housing Authority | 407 Pershing Road | Zanesville | OH | 43701 | 180,682.00
Youngstown Metropolitan Housing Authority | 131 West Boardman Street | Youngstown | OH | 44503 | 239,250.00
Ponca Tribe of Indians of Oklahoma | 20 White Eagle Drive | Ponca City | OK | 74601 | 167,369.00
Housing Authority of Lincoln County | 1039 NW Nye Street | Newport | OR | 97365 | 239,250.00
Housing Authority of Clackamas County | P.O. Box 1510 | Oregon City | OR | 97045 | 236,857.00
Bucks County Housing Authority | 350 South Main Street, Suite 205 | Doylestown | PA | 18901 | 239,250.00
Westmoreland County Housing Authority | 167 S Greengate Road | Greensburg | PA | 15601 | 184,067.00
Reading Housing Authority | 400 Hancock Boulevard | Reading | PA | 19611 | 230,621.00
HACE f/k/a Hispanic Association of Contractors and Enterprise | 167 W Allegheny Avenue | Philadelphia | PA | 19140 | 235,570.00
Harrisburg Housing Authority | 351 Chestnut Street | Harrisburg | PA | 17101 | 472,727.00
Wilkes-Barre Housing Authority | 50 Lincoln Plaza | Wilkes-Barre | PA | 18702 | 210,000.00
Allegheny County Housing Authority | 301 Chartiers Avenue | Mckees Rocks | PA | 15136 | 717,750.00
Housing Authority of the City of York | 31 S Broad St | York | PA | 17403 | 239,250.00
Johnston Housing Authority | 8 Forand Circle | Johnston | RI | 2919 | 239,250.00
Housing Authority of the City of Providence, RI | 100 Broad Street | Providence | RI | 2903 | 478,500.00
Chestnut Court Tenants Association | 5 Chestnut Street | Westerly | RI | 2891 | 239,250.00
Housing Authority of Florence | 400 East Pine Street | Florence | SC | 29506 | 193,236.00
Housing Authority of the City of Columbia, SC | 1917 Harden Street | Columbia | SC | 29204 | 401,736.00
Sisseton Wahpeton Housing Authority | 605 Lydia Goodsell Street | Sisseton | SD | 57262 | 183,150.00
Johnson City Public Housing Authority | 901 Pardee Street | Johnson City | TN | 37601 | 239,250.00
Crossville Housing Development Corporation | 67 Irwin Avenue | Crossville | TN | 38555 | 153,450.00
Houston Housing Authority (HHA) | 2640 Fountain View Drive | Houston | TX | 77057 | 717,750.00
Housing Authority of the City of Beaumont | 1890 Laurel | Beaumont | TX | 77701 | 210,153.00
San Marcos Housing Authority | 1201 Thorpe Ln | San Marcos | TX | 78666 | 217,275.00
Baytown Housing Authority | 1805 Cedar Bayou Road | Baytown | TX | 77520 | 239,250.00
City of Roanoke Redevelopment and Housing Authority | 2624 Salem Turnpike NW | Roanoke | VA | 24017 | 396,978.00
Chesapeake Redevelopment & Housing Authority | 1468 South Military Highway | Chesapeake | VA | 23320 | 239,250.00
Lynchburg Redevelopment & Housing Authority | 918 Commerce Street | Lynchburg | VA | 24504 | 215,635.00
Alexandria Redevelopment and Housing Authority | 401 Wythe Street | Alexandria | VA | 22314 | 239,250.00
The Housing Authority of the City of Bremerton | 600 Park | Bremerton | WA | 98337 | 224,739.00
Colville Indian Housing Authority | 42 Convalescent Center Blvd | Nespelem | WA | 99155 | 201,905.00
Puyallup Tribe of Indians | 3009 E Portland Ave | Tacoma | WA | 98404 | 239,250.00
Charleston-Kanawha Housing Authority | 1525 Washington Street West | Charleston | WV | 25387 | 194,411.00
Total |  |  |  |  | 37,699,255.00

[FR Doc. 2022-07869 Filed 4-12-22; 8:45 am]

BILLING CODE 4210-67-P